DEPARTMENT OF HEALTH AND HUMAN SERVICES

Administration for Community Living

Notice of Intent To Award a Single Source Non-Competing Program Expansion Supplement to the National Falls Prevention Resource Center

AGENCY: Administration for Community Living, Department of Health and Human Services.

ACTION: Notice.

SUMMARY: The Administration for Community Living (ACL) announces its intent to award a single-source program expansion supplement to expand the work of the National Falls Prevention Resource Center (NFPRC). The goals of the NFPRC are to: Increase public education about the risks of falls and how to prevent them; and to support and stimulate the implementation and dissemination of evidence-based community programs and strategies that have been proven to reduce the incidence of falls among seniors. The purpose of this notice is to award supplemental funds to expand work already underway by The National Council on Aging, the grantee who serves as the NFPRC.

DATES: May 14, 2015.

FOR FURTHER INFORMATION CONTACT: For further information or comments regarding this program expansion supplement, contact Shannon Skowronski, U.S. Department of Health and Human Services, Administration for Community Living, Office of Nutrition and Health Promotion Programs, One Massachusetts Avenue NW., Washington, DC 20001; telephone (202) 357-0149; email shannon.skowronski@acl.hhs.gov.

SUPPLEMENTARY INFORMATION:

Program Name: National Falls Prevention Resource Center.

Award Amount: $300,000.

Project Period: The award will be issued for a project period to run concurrently with the existing grantee's budget period.

Award Type: Cooperative Agreement.

Statutory Authority: The statutory authority for this funding is contained in the Consolidated and Further Continuing Appropriations Act, 2015, Pub. L. 113-235, Div. G., Title II, § 219(a); Public Health Service Act, 42 U.S.C. 300u-2 (Community Programs) and 300u-3 (Information Programs); and the Patient Protection and Affordable Care Act, 42 U.S.C. 300u-11 (Prevention and Public Health Fund).

Catalog of Federal Domestic Assistance (CFDA) Number: 93.761.

Program Description: The Administration on Aging, within the U.S. Administration for Community Living, has been funding the National Falls Prevention Resource Center (NFPRC) since 2014. The NFPRC works to increase public education about the risks of falls and how to prevent them, and supports and stimulates the implementation and dissemination of evidence-based community programs and strategies that have been proven to reduce the incidence of falls among seniors. The purpose of the NFPRC is to help provide consumers and professionals with the resources they need to help prevent falls and decrease falls risk among older adults and adults with disabilities. The NFPRC provides a variety of resources to the field and to ACL/AoA falls prevention grantees to support the broader implementation, dissemination, and sustainability of evidence-based falls prevention programs. Examples of resources include fact sheets, issue briefs, webinars, program descriptions, best practices, and consultation of national experts on falls prevention. The NFPRC also increases public awareness and educates consumers about falls as a preventable public health problem through consumer materials, such as the “6 Steps to Prevent a Fall” infographic and the facilitation of the annual Falls Prevention Awareness Day across the country. Professional education is provided through the NFPRC's Web site, collaboration with state falls prevention coalitions, partnerships with professional associations, presentations at professional conferences, and NFPRC-conducted meetings.

Justification: The purpose of this Supplement is to expand the National Falls Prevention Resource Center (NFPRC) activities in the following ways:

(1) Increase coordination and support for evidence-based falls prevention programs. NFPRC's current activities include providing support to the public and aging services network, including support to 14 two-year forward-funded projects that ACL awarded in FY2014 under HHS-2014-ACL-AOA-FP-0083 (“Evidence-Based Falls Prevention Programs Financed Solely by 2014 Prevention and Public Health Funds (PPHF-2014)”). When the NFPRC grant was initially awarded, ACL did not know if it would receive additional funding for more falls prevention grants. Subsequently, ACL received $5 million in FY2015 funds and now anticipates awarding 10 to 14 additional grants. The NFPRC will extend its efforts to encompass activities and support involving these additional grantees, which will require the NFPRC to secure additional resources, including staffing. In addition, the NFPRC would be able to expand the scope of its planned FY2016 meeting, which will focus on developing successful strategies to implement and sustain falls prevention programs, as well as provide opportunities for networking among evidence-based program implementers.

(2) Follow-up from the National Falls Prevention Summit. The National Council on Aging hosted a National Falls Prevention Summit on April 30th, 2015. The purpose of this Summit was to update the 2005 Falls Free® National Action Plan, and to engage key stakeholders in developing steps to implement the revised Plan. The NFPRC will provide Summit follow-up to help move these efforts forward—working with national, state, and community partners to help prevent falls among older adults and adults with disabilities across the Nation.

Dated: May 6, 2015.
Kathy Greenlee,
Administrator and Assistant Secretary for Aging.

[FR Doc. 2015-11516 Filed 5-13-15; 8:45 am]

BILLING CODE 4154-01-P